NUCLEAR REGULATORY COMMISSION

[Docket No. 50-289; NRC-2019-0142]

Exelon Generation Company LLC; Three Mile Island Nuclear Station Unit 1; Post-Shutdown Decommissioning Activities Report

AGENCY: Nuclear Regulatory Commission.

ACTION: Notice of receipt; availability; public meeting; and request for comment.

SUMMARY: On April 5, 2019, the U.S. Nuclear Regulatory Commission (NRC) received the Post-Shutdown Decommissioning Activities Report (PSDAR) for the Three Mile Island Nuclear Station, Unit 1 (TMI-1). The PSDAR provides an overview of Exelon Generation Company, LLC's (Exelon or the licensee) planned decommissioning activities, schedule, projected costs, and environmental impacts for TMI-1. The NRC will hold a public meeting to discuss the PSDAR's content and receive comments.

DATES: Submit comments by October 9, 2019. Comments received after this date will be considered if it is practical to do so, but the NRC is able to ensure consideration only for comments received before this date.

ADDRESSES: You may submit comments by any of the following methods:

• Federal Rulemaking Website: Go to https://www.regulations.gov/ and search for Docket ID: NRC-2019-0142. Address questions about NRC dockets IDs to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Justin C. Poole, Office of Nuclear Reactor Regulation, U.S. Nuclear Regulatory Commission, Washington, DC 20555-0001, telephone: 301-415-2048; email: Justin.Poole@nrc.gov.

SUPPLEMENTARY INFORMATION:

I. Obtaining Information and Submitting Comments

A. Obtaining Information

Please refer to Docket ID NRC-2019-0142 when contacting the NRC about the availability of information for this action. You may obtain publicly-available information related to this action by any of the following methods:

• Federal Rulemaking Website: Go to https://www.regulations.gov/ and search for Docket ID NRC-2019-0142.

• NRC's Agencywide Documents Access and Management System (ADAMS): You may obtain publicly-available documents online in the ADAMS Public Documents collection at https://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2019-0142 in your comment submission.

The NRC cautions you not to include identifying or contact information that you do not want to be publicly disclosed in your comment submission. The NRC will post all comment submissions at https://www.regulations.gov/ as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

Exelon is the holder of Renewed Facility Operating License No. DPR-50 for TMI-1. The license provides, among other things, that the facility is subject to all rules, regulations, and orders of the NRC now or hereafter in effect. The facility consists of one pressurized-water reactor located in Dauphin County, Pennsylvania. By letter dated June 20, 2017 (ADAMS Accession No. ML17171A151), the licensee submitted Certification of Permanent Cessation of Power Operations for TMI-1. In this letter, Exelon notified the NRC of its intent to permanently cease operations at TMI-1 no later than September 30, 2019.

On April 5, 2019, Exelon submitted the PSDAR for TMI-1, in accordance with § 50.82(a)(4)(i) of title 10 of the Code of Federal Regulations (ADAMS Accession No. ML19095A041). The PSDAR includes a description of the planned decommissioning activities, a proposed schedule for their accomplishment, the expected decommissioning and spent fuel management costs, and a discussion that provides the basis for concluding that the environmental impacts associated with the site-specific decommissioning activities will be bounded by appropriate, previously issued generic and plant-specific environmental impact statements. In separate letters, Exelon submitted its Site Specific Decommissioning Cost Estimate and Spent Fuel Management Plan for TMI-1 on April 5, 2019 (ADAMS Accession Nos. ML19095A010 and ML19095A009, respectively).

III. Request for Comment and Public Meeting

The NRC is requesting public comments on the PSDAR for TMI-1. The NRC will conduct a public meeting to discuss the PSDAR and receive comments on Tuesday, July 23, 2019, from 6 p.m. until 9 p.m., at the Sheraton Harrisburg Hershey Hotel, 4650 Lindle Road, Harrisburg, Pennsylvania 17111. The NRC requests that comments that are not provided during the meeting be submitted as noted in Section I, “Obtaining Information and Submitting Comments,” of this document in writing by October 9, 2019.

Dated at Rockville, Maryland, this 8th day of July 2019.
For the Nuclear Regulatory Commission.
James G. Danna,
Chief, Plant Licensing Branch I, Division of Operating Reactor Licensing, Office of Nuclear Reactor Regulation.

[FR Doc. 2019-14745 Filed 7-10-19; 8:45 am]

BILLING CODE 7590-01-P